DEPARTMENT OF THE INTERIOR

Bureau of Land Management

[ES-020-02-1610-DU]

Notice of Availability and Protest Period of the Proposed Planning Analysis for Arkansas and Louisiana

AGENCY: Bureau of Land Management, Department of the Interior.

ACTION: Notice of availability and protest period.

SUMMARY: The Bureau of Land Management (BLM) has prepared a Proposed Planning Analysis and Environmental Assessment (PA/EA) and a Finding of No Significant Impact (FONSI) that address management of public domain lands in Arkansas and Louisiana. The PA/EA describes and analyzes the proposed action for management of approximately 575 acres in Arkansas and 378 acres in Louisiana. These public lands are isolated tracts in seven counties in Arkansas and four parishes in Louisiana. The affected counties in Arkansas are: Baxter, Cleburne, Crawford, Fulton, Pike, Searcy and Van Buren. The affected parishes in Louisiana are Desoto, Natchitoches, Rapides and St. Martin. Split-estate Federal minerals are not included in this PA/EA. These documents were prepared to fulfill the requirements of the Federal Land Policy and Management Act of 1976 (FLPMA) and the National Environmental Policy Act of 1969 (NEPA).

DATES: Protests on the Proposed PA/EA must be postmarked no later than December 31, 2001. The Proposed PA/EA and FONSI can be reviewed Mondays through Fridays, from 8 a.m. to 4 p.m., at the BLM's Jackson Field Office, 411 Briarwood Drive, Suite 404, Jackson, Mississippi 39206, or by visiting the Web site at www.es.blm.gov/jfo/pages/lupj.html.

ADDRESSES: All protests must be filed only with the Director of the BLM and submitted by mail or overnight mail as follows: The address for regular mail is: Director, Bureau of Land Management, Att: Ms. Brenda Williams, Protest Coordinator, WO 210/LS-1075, U.S. Department of the Interior, 1849 C Street, NW., Washington, DC 20240; The address for overnight mail is: Director, Bureau of Land Management, Attn: Ms. Brenda Williams, Protest Coordinator (WO 210); 1620 L Street, NW., Room 1075, Washington, DC 20036. Phone: (202) 452-5110.

FOR FURTHER INFORMATION CONTACT: Duane Winters at (601) 977-5400.

SUPPLEMENTARY INFORMATION: The Proposed Action was developed after review of comments on the Draft PA/EA. Public comments on the Draft PA/EA were received by mail, public meeting, e-mail, and phone calls.

The alternatives that were considered can be summarized as: (1) No Action or Custodial Management, (2) Disposal, and (3) Management through Partnerships. Under the Custodial Management alternative, the BLM would retain the tracts, but would not pro-actively manage them. There would be no actions taken to manage habitats or other resources. When presented to BLM, applications for use would be evaluated on a case-by-case basis. Because this alternative would essentially be a continuation of the current management approach, it is also referred to as the No Action alternative. With the Disposal alternative, BLM would pursue transfer of the tracts out of Federal ownership through various means including sale, exchange or conveyance under the Recreation and Public Purposes Act. In a sale or exchange, priority would be given to transferring the tracts to adjacent land owners. In the Partnership alternative, resource management objectives are developed for each tract. These objectives include the desired conditions, such as type of habitat and recreational opportunity. BLM would actively seek partners, and with their cooperation, develop site specific implementation plans to identify needed management actions.

The Proposed PA/EA describes proposed management, including proposed decisions on disposal, for each of the BLM-administered tracts in Arkansas and Louisiana. Three of the tracts in Arkansas are proposed for disposal. Two tracts in Arkansas are proposed for withdrawal to the U.S. Forest Service. One tract in Arkansas and one tract in Louisiana are proposed for management with partners. The other six tracts in Arkansas and three tracts in Louisiana are proposed for continued management by the BLM under a modification of the custodial alternative.

The BLM planning process offers an opportunity for administrative review (43 CFR 1610.5-2). Any participant in the planning process who has an interest that is or may be adversely affected by the proposed decisions may file a protest in writing with the BLM Director. (See DATES and ADDRESSES sections above for the nonextendable deadline and specific addresses for filing protests on this Proposed Plan.) Only those persons or organizations that participated in the planning and analysis process may protest the proposed decisions in the Proposed Plan. Protests may raise only the issues that were previously submitted for the record during the planning and environmental analysis process by the protestor or another participant in the process.

To be considered complete, a protest must include, at a minimum, the following information:

1. The name, mailing address, telephone number, and interest of the person filing the protest.

2. A statement of the part or parts of the plan and the issues being protested. To the extent possible, this should be done by reference to specific pages, paragraphs, sections, tables, or maps included within the Proposed Plan and EA.

3. A copy of all documents addressing the issue(s) that the protesting party submitted during the planning process or a statement of the date they were discussed for the record.

4. A concise statement explaining why the protestor believes the proposed decision(s) is wrong. All relevant facts need to be included in the statement of reasons.

At the end of the 30-day protest period, a decision document can be issued and, excluding any portions under protest, the Proposed Plan will become final. Approval will be withheld on any portion of the Proposed Plan under protest until final action has been completed on that protest.

Dated: November 6, 2001.
Sammy St. Clair,
Acting Field Manager.

[FR Doc. 01-29731 Filed 11-29-01; 8:45 am]

BILLING CODE 4310-GJ-P